ENVIRONMENTAL PROTECTION AGENCY

[OPPT-2002-0017; FRL-7180-3]

National Advisory Committee for Acute Exposure Guideline Levels for Hazardous Subtances; Second List of Priority Chemicals for Guideline Development

AGENCY: Environmental Protection Agency (EPA).

ACTION: Notice.

SUMMARY: The National Advisory Committee for Acute Exposure Guideline Levels for Hazardous Substances (NAC/AEGL), established by EPA under the Federal Advisory Committee Act (FACA), develops AEGLs on an ongoing basis to assist with Federal, State, and other organization needs for short-term hazardous chemical exposure information. NAC/AEGL encourages the submission of acute toxicology data or other pertinent information on these chemicals and all other chemicals on the list to the Designated Federal Officer, listed under FOR FURTHER INFORMATION CONTACT.

ADDRESSES: Comments may be submitted by mail, electronically, or in person. Please follow the detailed instructions for each method as provided in Unit I. of the SUPPLEMENTARY INFORMATION. To ensure proper receipt by EPA, it is imperative that you identify docket ID number OPPTS-2002-0017 in the subject line on the first page of your response.

FOR FURTHER INFORMATION CONTACT: For general information contact: Barbara Cunningham, Director, Environmental Assistance Division (7408M), Office of Pollution Prevention and Toxics, Environmental Protection Agency, 1200 Pennsylvania Ave., NW., Washington, DC 20460; telephone number: (202) 554-1404; e-mail address: TSCA-Hotline@epa.gov.

For technical information contact: Paul S. Tobin, Economics, Exposure, and Technology Division (7406M), Office of Pollution Prevention and Toxics, Environmental Protection Agency, 1200 Pennsylvania Ave., NW., Washington, DC 20460; telephone number: (202) 564-8557; e-mail address: tobin.paul@epa.gov.

SUPPLEMENTARY INFORMATION:

I. General Information

A. Does this Action Apply to Me?

This action is directed to the public in general. This action may, however, be of interest to persons interested in the development of AEGLs for chemical emergency planning purposes. Since other entities may also be interested, the Agency has not attempted to describe all the specific entities that may be affected by this action. If you have any questions regarding the applicability of this action to a particular entity, consult the technical person listed under FOR FURTHER INFORMATION CONTACT.

B. How Can I Get Additional Information, Including Copies of this Document or Other Related Documents?

1. Electronically. You may obtain electronic copies of this document, and certain other related documents that might be available electronically, from the EPA Internet Home Page at http://www.epa.gov/. To access this document, on the Home Page select “Laws and Regulations,” “Regulations and Proposed Rules,” and then look up the entry for this document under the Federal Register—Environmental Documents. You can also go directly to the Federal Register listings at http://www.epa.gov/fedrgstr/.

2. In person. The Agency has established an official record for this action under docket ID number OPPTS-2002-0017. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the TSCA Nonconfidential Information Center, North East Mall Rm. B-607, Waterside Mall, 401 M St., SW., Washington, DC. The Center is open from noon to 4 p.m., Monday through Friday, excluding legal holidays. The telephone number for the Center is (202) 260-7099.

C. How and to Whom Do I Submit Comments?

You may submit comments through the mail, in person, or electronically. To ensure proper receipt by EPA, it is imperative that you identify docket ID number OPPTS-2002-0017 in the subject line on the first page of your response.

1. By mail. Submit your comments to: Document Control Office (7407M), Office of Pollution Prevention and Toxics (OPPT), Environmental Protection Agency, 1200 Pennsylvania Ave., NW., Washington, DC 20460.

2. In person or by courier. Deliver your comments to: OPPT Document Control Office (DCO) in EPA East Building Rm. 6428, 1201 Constitution Ave., NW., Washington, DC. The DCO is open from 8 a.m. to 4 p.m., Monday through Friday, excluding legal holidays. The telephone number for the DCO is (202) 564-8930.

3. Electronically. You may submit your comments electronically by e-mail to: oppt.ncic@epa.gov, or mail your computer disk to the address identified above. Do not submit any information electronically that you consider to be CBI. Electronic comments must be submitted as an ASCII file avoiding the use of special characters and any form of encryption. Comments and data will also be accepted on standard disks in WordPerfect 6.1/8.0 or ASCII file format. All comments in electronic form must be identified by docket ID number OPPTS-2002-0017. Electronic comments may also be filed online at many Federal Depository Libraries.

D. How Should I Handle CBI Information That I Want To Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the technical person listed under FOR FURTHER INFORMATION CONTACT.

E. What Should I Consider as I Prepare My Comments for EPA?

We invite you to provide your views on the various options we propose, new approaches we have not considered, the potential impacts of the various options (including possible unintended consequences), and any data or information that you would like the Agency to consider during the development of the final action. You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this notice.

8. To ensure proper receipt by EPA, be sure to identify the docket ID number assigned to this action in the subject line on the first page of your response. You may also provide the name, date, and Federal Register citation.

II. Background

A. What Action is the Agency Taking?

This list of 371 priority chemicals is a composite of numerous priority lists of acutely toxic chemicals and represents the selection of chemicals for AEGL development by the NAC/AEGL during the next several years. The list has been assembled from the individual lists of chemicals nominated by NAC/AEGL member organizations for AEGL development. Although the priority list of chemicals, published in this notice, is subject to modification as priorities of the NAC/AEGL committee or the NAC/AEGL member organizations change, it is anticipated that most of the chemicals on the priority list will remain as high priority for AEGL development during the next several years. The NAC/AEGL intends to address at least 30 chemicals per year in the AEGL development process. There are 137 chemicals on this list of 371 priority chemicals that are considered a higher priority (indicated by an asterisk below), based on considerations of toxicity, volatility, presence on numerous organization chemical lists, and other factors. These chemicals are planned to be addressed prior to the other listed chemicals. Any suggested additions to this priority list and the rationale for their addition may be addressed to the Designated Federal Officer. An initial listing of 85 priority chemicals was published in the Federal Register of May 21, 1997 (62 FR 27733) (FRL-5713-7), to facilitate participation by the public in the AEGL process.

It is believed that publication of today's list of chemicals will provide individuals and organizations with ample time to gather existing data and information and, where appropriate, to develop new data and information on the acute toxicity of the chemicals listed herein, for the consideration of the NAC/AEGL. Parties possessing such data and information or those anticipating the future conduct of toxicity studies on any of these chemicals should contact the Designated Federal Officer.

Table 1.—Second List of AEGL Priority Chemicals for Guideline Development
CAS No. | Chemical Name
50-00-0 | Formaldehyde*
50-29-3 | 4,4'-DDT
50-32-8 | Benzo(a)pyrene*
54-11-5 | Nicotine
56-38-2 | Parathion*
56-55-3 | Benzo(a)anthracene
56-72-4 | Coumaphos
57-24-9 | Strychnine*
57-57-8 | Beta-Propiolactone
57-74-9 | Chlordane*
58-89-9 | Lindane (hexachlorocyclohexane)
60-29-7 | Ethyl ether
60-51-5 | Dimethoate
60-57-1 | Dieldrin
62-38-4 | Phenylmercuric acetate*
62-73-7 | Dichlorvos
62-74-8 | Sodium fluoroacetate*
62-75-9 | Nitrosodimethylamine
64-18-6 | Formic acid
64-19-7 | Acetic acid
67-64-1 | Acetone*
74-82-8 | Methane
74-83-9 | Methyl bromide*
74-87-3 | Methyl chloride*
74-88-4 | Methyl iodide
74-89-5 | Methyl amine*
74-98-6 | Propane*
75-00-3 | Chloroethane
75-01-4 | Vinyl chloride*
75-02-5 | Vinyl fluoride
75-04-7 | Ethyl amine*
75-05-8 | Acetonitrile
75-07-0 | Acetaldehyde*
75-08-1 | Ethyl mercaptan*
75-12-7 | Formamide
75-15-0 | Carbon disulfide*
75-18-3 | Dimethyl sulfide
75-25-2 | Bromoform
75-34-3 | 1,1-Dichloroethane
75-36-5 | Acetyl chloride*
75-50-3 | Trimethylamine*
75-54-7 | Methyl dichlorosilane*
75-65-0 | t-Butyl alcohol
75-93-4 | Methyl sulfate
76-02-8 | Trichloroacetyl chloride*
76-06-2 | Chloropicrin*
76-44-8 | Heptachlor
77-47-4 | Hexachlorocyclopentadiene
77-78-1 | Dimethyl sulfate*
78-00-2 | Tetraethyl lead
78-71-7 | Oxetane, 3,3-bis(chloromethyl)-
78-85-3 | Methacrylaldehyde*
78-87-5 | 1,2-Dichloropropane
78-94-4 | Methyl vinyl ketone*
78-95-5 | Chloroacetone (stabilized)*
78-97-7 | Lactonitrile
79-04-9 | Chloroacetyl chloride*
79-06-1 | Crylamide
79-09-4 | Propionic acid
79-14-1 | Glycolic acid
79-19-6 | Thiosemicarbazide
79-38-9 | Trifluorochloroethylene
79-41-4 | Methacrylic acid*
79-57-2 | Terramycin*
80-15-9 | Cumene hydroperoxide
80-56-8 | alpha-Pinene
80-62-6 | Methyl methacrylate*
80-63-7 | Methyl 2-chloroacrylate
81-81-2 | Warfarin
82-66-6 | Diphacinone
84-66-2 | Diethyl phthalate
84-74-2 | di-n-Butyl phthalate
85-68-7 | Butyl benzyl phthalate
86-50-0 | Azinphos-methyl*
86-74-8 | Carbazole
87-86-5 | Pentachlorophenol
92-52-4 | Biphenyl
94-75-7 | 2,4-Dichlorophenyoxy acetic acid
95-48-7 | o-Cresol
95-63-6 | Trimethyl benzene
96-29-7 | 2-Butanone oxime
97-02-9 | 2,4-Dinitroaniline*
98-05-5 | Phenyl arsonic acid
98-07-7 | Benzyl trichloride
98-09-9 | Benzenesulfonyl chloride
98-13-5 | Trichlorophenyl silane
98-16-8 | 3-(Trifluoromethyl) Aniline
98-82-8 | Cumene
98-87-3 | Benzal chloride
98-88-4 | Benzoyl chloride
98-95-3 | Nitrobenzene
100-14-1 | Benzene, 1-(chloromethyl)-4-nitro-
100-41-4 | Ethyl benzene
100-42-5 | Styrene*
100-44-7 | Benzyl chloride
100-51-6 | Benzyl alcohol
101-68-8 | 4,4-Methylenediphenyl diisocyanate*
103-71-9 | Phenyl isocyanate
105-60-2 | Caprolactam
106-44-5 | p-Cresol
106-50-3 | p-Phenylenediamine
106-88-7 | 1,2-Butylene oxide
106-93-4 | Dibromoethane*
106-96-7 | Propargyl bromide
106-97-8 | Butane*
106-99-0 | Butadiene*
107-05-1 | Allyl chloride
107-06-2 | 1,2-Dichloroethane
107-07-3 | Chloroethanol
107-13-1 | Acrylonitrile*
107-14-2 | Chloroacetonitrile*
107-16-4 | Formaldehyde cyanohydrin
107-19-7 | Propargyl alcohol
107-20-0 | Chloroacetaldehyde*
107-21-1 | Ethylene glycol
107-37-9 | Allyl trichlorosilane
107-72-2 | Amyltrichlorosilane
108-05-4 | *Vinyl acetate monomer
108-10-1 | 4-Methyl-2-pentanone
108-24-7 | Acetic anhydride*
108 31-6 | Maleic anhydride*
108-39-4 | m-Cresol
108-65-6 | Propylene glycol monomethyl ether acetate
108-67-8 | Mesitylene
108-90-7 | Chlorobenzene*
108-98-5 | Phenylmercaptan*
109-73-9 | n-Butylamine
109-77-3 | Malononitrile*
109-89-7 | Diethyl amine
109-90-0 | Ethyl isocyanate
109-99-9 | Tetrahydrofuran*
110-54-3 | Hexane*
110-57-6 | Trans-1,4-dichlorobutene
110-78-1 | n-Propyl isocyanate
110-82-7 | Cyclohexane*
110-86-1 | Pyridine
111-34-2 | Butyl vinyl ether
111-36-4 | n-Butyl isocyanate*
111-42-2 | Diethanolamine
111-44-4 | Dichloroethyl ether
111-48-8 | Thiodiglycol
111-69-3 | Adiponitrile
111-77-3 | Diethylene glycol monomethyl ether
111-88-6 | n-Octylmercaptan*
115-21-9 | Trichloroethyl silane
116-06-3 | Aldicarb*
116-14-3 | Tetrafluoroethylene
116-15-4 | Hexafluoropropylene
117-84-0 | Dioctyl phthalate
118-52-5 | 1,3-Dichloro-5,5-dimethylhydantoin
120-82-1 | 1,2,4-Trichlorobenzene
121-75-5 | Malathion
122-14-5 | Fenitrothion
123-31-9 | Hydroquinone
123-38-6 | Propionaldehyde*
123-86-4 | n-Butyl acetate*
124-40-3 | Dimethyl amine*
124-63-0 | Methanesulfonyl chloride
124-65-2 | Sodium cacodylate
129-00-0 | Pyrene
131-11-3 | Dimethyl phthalate
140-88-5 | Ethyl acrylate*
141-32-2 | Butylacrylate*
141-43-5 | Monoethanolamine
141-59-3 | t-Octyl mercaptan
141-66-2 | Dicrotophos
141-78-6 | Ethyl acetate*
143-33-9 | Sodium cyanide*
144-62-7 | Oxalic acid
149-74-6 | Dichloromethylphenyl silane
150-76-5 | p-Methoxyphenol
151-38-2 | Methoxyethyl mercury*
207-08-9 | Benzo(k)fluoranthene
218-01-9 | Chrysene
287-92-3 | Cyclopentane
297-78-9 | Isobenzan
298-00-0 | Methyl parathion*
298-02-2 | Phorate*
298-04-4 | Disulfoton*
300-62-9 | Amphetamine
333-41-5 | Diazinon
334-88-3 | Diazomethane*
353-50-4 | Carbonyl fluoride*
354-32-5 | Trifluoroacetyl chloride
371-62-0 | Ethylene fluorohydrin
382-21-8 | Perfluoroisobutylenene
453-18-9 | Methyl fluoroacetate*
460-19-5 | Cyanogen*
463-51-4 | Ketene*
463-58-1 | Carbonyl sulfide*
463-71-8 | Thiophosgene
503-38-8 | Diphosgene
506-68-3 | Cyanogen bromide*
506-78-5 | Cyanogen iodide
506-96-7 | Acetyl bromide
534-52-1 | 4,6-Dinitro-o-cresol
538-07-8 | Bis(2-chloroethyl)ethylamine
541-25-3 | Lewisite
541-41-3 | Ethyl chloroformate*
542-88-1 | bis-Chloromethyl ether*
543-27-1 | i-Butyl chloroformate
555-77-1 | Tris(2-chloroethyl)amine (N-Mustard)
556-61-6 | Methyl isothiocyanate
556-64-9 | Methyl thiocyanate*
563-12-2 | Ethion
578-94-9 | Adamsite
592-34-7 | n-Butyl chloroformate
593-53-3 | Methyl fluoride
593-89-5 | Methyl dichloroarsine
598-14-1 | Ethyl dichloroarsine
598-31-2 | Bromoacetone
622-44-6 | Phenyl carbylamine chloride
624-92-0 | Dimethyl disulfide*
625-55-8 | Isopropyl formate
627-44-1 | Diethyl mercury
640-19-7 | Fluoroacetamide
646-06-0 | Diulane
674-82-8 | Diketene*
675-14-9 | Cyanuric fluoride
676-83-5 | Methyl phosphonous dichloride
676-97-1 | Methyl phosphonic dichloride
681-84-5 | Tetamethoxysilane
684-16-2 | Hexafluoroacetone*
696-28-6 | Phenyl dichloroarsine
732-11-6 | Phosmet
757-58-4 | Hexaethyl tetraphosphate
813-78-5 | Dimethyl phosphate
919-86-8 | Demeton S-methyl
920-46-7 | Methacryloyl chloride
944-22-9 | Fonofos*
950-37-8 | Methidathion*
993-00-0 | Methyl chlorosilane*
993-13-5 | Methylphosphonic acid
993-43-1 | Ethylphosphonodithioicdichloride
999-81-5 | Clormequat chloride
1024-57-3 | Heptachlor epoxide
1120-71-4 | 1,3-Propane sultone
1303-28-2 | Arsenic pentoxide
1306-02-1 | Lewisite oxide
1314-84-7 | Zinc phosphide
1319-77-3 | Cresol*
1327-53-3 | Arsenic trioxide*
1336-36-3 | Polychlorinated biphenyl
1341-24-8 | Chloroacetophenone*
1341-49-7 | Ammonium bifluoride
1397-94-0 | Antimycin A
1498-40-4 | Ethylphosphonous dichloride
1498-51-7 | Ethylphosphorodichloridate
1558-25-4 | Chloromethyl (trichloro) silane
1563-66-2 | Carbofuran*
1582-09-8 | Trifluralin
1609-86-5 | t-Butyl isocyanate
1634-04-4 | Methyl t-butyl ether*
1675-54-3 | Bisphenol A diglycidyl ether
1737-93-5 | 3,5-Dichloro-2,4,5-trifluoropyridine
1746-01-6 | 2,3,7,8-Tetrachlorodibenzo-p-dioxin*
1832-54-8 | Isopropyl methyl phosphonic acid
1873-29-6 | Isobutyl isocyanate
1910-42-5 | Paraquat dichloride*
2032-65-7 | Methiocarb
2231-57-4 | Thiocarbazide
2487-90-3 | Trimethoxysilane
2524-03-0 | Dimethyl phosphorochloridothioate
2696-92-6 | Nitrosyl chloride*
2698-41-1 | o-Chlorobenzylidene malononitrile*
2699-79-8 | Sulfuryl fluoride*
2937-50-0 | Allylchloroformate
2941-64-2 | Ethyl chlorothioformate
3048-64-4 | Vinyl norbornene
3173-53-3 | Cyclohexyl isocyanate*
3282-30-2 | Trimethylacetyl chloride
3689-24-5 | Tetraethyl dithiopyrophosphate (Sulfotep)*
3691-35-8 | Chlorophacinone
4098-71-9 | Isophorone diisocyanate
4109-96-0 | Dichlorosilane
4300-97-4 | Chloropivaloyl chloride
4418-66-0 | Phenol, 2,2'-thiobis(4-chloro-6-methyl-)
5332-73-0 | 3-Methoxypropyl amine
5798-79-8 | Bromobenzyl cyanide
6427-21-0 | Methoxymethyl isocyanate
6581-06-2 | 3-Quinuclidinyl benzilate
6923-22-4 | Monocrotophos*
7439-92-1 | Lead & compounds including lead phosphate*
7439-96-5 | Manganese & compounds
7439-97-6 | Mercury & compounds including methyl mercury*
7440-02-0 | Nickel and compounds*
7440-38-2 | Arsenic & compounds*
7440-39-3 | Barium & compounds
7440-41-7 | Beryllium & compounds*
7440-43-9 | Cadmium & compounds*
7440-48-4 | Cobalt & compounds
7440-50-8 | Copper & compounds
7440-62-2 | Vanadium & compounds
7440-66-6 | Zinc & compounds
7446-18-6 | Thallium sulfate*
7446-70-0 | Aluminum chloride
7521-80-4 | Butyltrichlorosilane
7550-45-0 | Titanium tetrachloride*
7580-67-8 | Lithium hydride
7616-94-6 | Perchloryl fluoride
7631-89-2 | Sodium arsenate
7647-19-0 | Phosphorus pentafluoride*
7664-38-2 | Phosphoric acid*
7705-07-9 | Titanium chloride
7719-09-7 | Thionyl chloride*
7722-84-1 | Hydrogen peroxide (concentration greater than 52%)*
7723-14-0 | Phosphorus
7727-15-3 | Aluminum bromide
7738-94-5 | Chromic acid
7782-65-2 | Germane
7782-68-5 | Iodic acid
7783-07-5 | Hydrogen selenide*
7783-41-7 | Oxygen difluoride*
7783-54-2 | Nitrogen trifluoride*
7783-61-1 | Silicon tetrafluoride*
7783-70-2 | Antimony pentafluoride
7783-71-3 | Tantalum V fluoride
7783-79-1 | Selenium hexafluoride*
7783-80-4 | Tellurium hexafluoride*
7783-82-6 | Tungsten hexafluoride
7784-46-5 | Sodium arsenite*
7786-34-7 | Mevinphos*
7787-71-5 | Bromine trifluoride*
7789-21-1 | Fluorosulfonic acid
7789-30-2 | Bromine pentafluoride*
7789-59-5 | Phosphorus oxybromide
7789-69-7 | Phosphorus pentabromide
7789-75-5 | Calcium fluoride
7790-94-5 | Chlorosulfonic acid*
7791-23-3 | Selenium oxychloride
7791-25-5 | Sulfuryl chloride*
7803-49-8 | Hydroxylamine*
7803-52-3 | Stibine (antimony hydride)*
7803-62-5 | Silane*
8001-35-2 | Camphechlor
8006-61-9 | Gasoline*
10025-67-9 | Disulfur dichloride
10025-73-7 | Chromic chloride
10026-13-8 | Phosphorus pentachloride
10028-15-6 | Ozone*
10034-85-2 | Hydrogen iodide*
10035-10-6 | Hydrogen bromide*
10265-92-6 | Methamidophos*
10294-33-4 | Boron tribromide*
10544-72-6 | Nitrogen tetroxide
10544-73-7 | Nitrogen trioxide
10545-99-0 | Sulfur dichloride*
11099-02-8 | Nickel oxide*
12002-03-8 | Copper acetoarsenite*
12108-13-3 | Manganese, tricarbonyl methylcyclopentadienyl
13071-79-9 | Terbufos*
13194-48-4 | Ethoprophos
13470-08-1 | Titanium III fluoride
13637-63-3 | Chlorine pentafluoride*
13863-41-7 | Bromine chloride*
16752-77-5 | Methomyl*
17462-58-7 | iso-Butyl chloroformate
19624-22-7 | Pentaborane*
20816-12-0 | Osmium tetroxide*
20859-73-8 | Aluminum phosphide*
22224-92-6 | Fenamiphos
22967-92-6 | Methyl mercury
23135-22-0 | Oxamyl
23422-53-9 | Formetanate hydrochloride
25321-14-6 | Dinitrotoluene
25321-22-6 | Dichlorobenzene
26419-73-8 | Tirpate
27137-85-5 | Trichloro (dichlorophenyl) silane
28772-56-7 | Bromodiolone
30674-80-7 | Methacryloyloxyethyl isocyanate
32315-10-9 | Triphosgene
*Indicates Higher Current Priority

List of Subjects

Environmental protection.

Dated: May 23, 2002.
William H. Sanders III,
Director, Office of Pollution Prevention and Toxics.

[FR Doc. 02-13700 Filed 5-30-02; 8:45 am]

BILLING CODE 6560-50-S